OFFICE OF PERSONNEL MANAGEMENT

Submission for Review: 3206-NEW, Request for Reduction or Cancellation of Federal Employees Group Life Insurance (FEGLI), RI 76-30

AGENCY: U.S. Office of Personnel Management.

ACTION: 60-Day notice and request for comments.

SUMMARY: The Office of Personnel Management (OPM), Retirement Services offers the general public and other federal agencies the opportunity to comment on the review of an existing information collection request (ICR) without approval, Request for Reduction or Cancellation of Federal Employees Group Life Insurance (FEGLI), RI 76-30.

DATES: Comments are encouraged and will be accepted until February 2, 2026.

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or sent by email to RSPublicationsTeam@opm.gov or faxed to (202) 606-0910 or reached via telephone at (202) 936-0401.

SUPPLEMENTARY INFORMATION: Annuitants who are enrolled in the Federal Employees Group Life Insurance (FEGLI) Program can cancel or reduce their coverage. The form, RI 76-30, ensures that an individual is fully informed about the effect of cancellation of FEGLI coverage. A cancellation of enrollment within the FEGLI Program will inhibit the annuitant from ever re-enrolling as an annuitant. A reduction of coverage within the FEGLI Program (Basic Life Insurance, Option B-Additional Insurance, Option C-Family Insurance) will prohibit the annuitant from increasing their coverage as an annuitant. A request is not processed until the signed form is returned to OPM.

As required by the Paperwork Reduction Act of 1995 (Pub. L. 104-13) as amended (44 U.S.C. chapter 35), OPM is soliciting comments for this collection (OMB No. 3206-NEW). OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management, Retirement Services.

Title: Request for Reduction or Cancellation of Federal Employees Group Life Insurance (FEGLI).

OMB Number: 3206-NEW.

Frequency: On occasion.

Affected Public: Individuals or Households.

Number of Respondents: 5,000.

Estimated Time per Respondent: 10 minutes.

Total Burden Hours: 833.

U.S. Office of Personnel Management.
Alexys Stanley,
Federal Register Liaison.

[FR Doc. 2025-21777 Filed 12-2-25; 8:45 am]

BILLING CODE 6325-38-P